DEPARTMENT OF AGRICULTURE

Agricultural Marketing Service

9 CFR Part 201

[Doc. No. AMS-FTPP-21-0044]

RIN 0581-AE03

Transparency in Poultry Grower Contracting and Tournaments

AGENCY: Agricultural Marketing Service, Department of Agriculture (USDA).

ACTION: Proposed rule; extension of comment period.

SUMMARY: The Agricultural Marketing Service is extending the comment period for our proposed rule that would revise the regulations under the Packers and Stockyards Act, 1921 to promote transparency in poultry production contracting. This action will allow interested persons additional time to prepare and submit comments.

DATES: The comment period for the proposed rule published on June 8, 2022 (at 87 FR 34980) is extended. We will consider all comments received on or before August 23, 2022.

ADDRESSES: Comments can be submitted by either of the following methods:

• Federal eRulemaking Portal: Go to https://www.regulations.gov. Enter AMS-FTPP-21-0044 in the Search field. Select the Documents tab, then select the Comment button in the list of documents.

• Postal Mail/Commercial Delivery: Send your comment to Docket No. AMS-FTPP-21-0044, S. Brett Offutt, Chief Legal Officer, Packers and Stockyards Division, USDA, AMS, FTPP; Room 2097-S, Mail Stop 3601, 1400 Independence Ave. SW, Washington, DC 20250-3601.

FOR FURTHER INFORMATION CONTACT: S. Brett Offutt, Chief Legal Officer/Policy Advisor, Packers and Stockyards Division, USDA AMS Fair Trade Practices Program, 1400 Independence Ave. SW, Washington, DC 20250; Phone: (202) 690-4355; or email: s.brett.offutt@usda.gov.

SUPPLEMENTARY INFORMATION: On June 8, 2022 (87 FR 34980), AMS published in the Federal Register a proposal to revise the regulations under the Packers and Stockyards Act (7 U.S.C. 181 et seq.) at 9 CFR part 201. Under the proposal, live poultry dealers would be required to make certain disclosures to poultry growers and prospective poultry growers in connection with poultry growing arrangements and to specify additional terms in poultry growing contracts. Further, live poultry dealers would be required to provide certain information to poultry growers in tournament pay systems—at the time of flock placement and at the time of settlement—about integrator-controlled inputs related to the poultry flocks growers receive for growout.

Comments on the proposed rule were required to be received on or before August 8, 2022. We are extending the comment period on Docket No. AMS-FTPP-21-0044 for an additional 15 days. This will allow interested persons additional time to prepare and submit comments. Comments must be submitted on or before August 23, 2022.

Erin Morris,
Associate Administrator, Agricultural Marketing Service.

[FR Doc. 2022-16871 Filed 8-5-22; 8:45 am]

BILLING CODE P